DEPARTMENT OF THE INTERIOR

Bureau of Land Management

[LLCO956000.L14200000 BJ0000]

Notice of filing of plats

AGENCY: Bureau of Land Management, Interior.

ACTION: Notice of filing of plats.

SUMMARY: The Bureau of Land Management (BLM) is publishing this notice to inform the public of the intent to file the land survey plats listed below, and to afford all affected parties a proper period of time to protest this action, prior to the plat filing.

DATES: Unless there are protests of this action, the filing of the plats described in this notice will happen on July 6, 2010.

ADDRESSES: BLM, Colorado State Office, Cadastral Survey, 2850 Youngfield Street, Lakewood, Colorado 80215-7093.

FOR FURTHER INFORMATION CONTACT: Randy Bloom, Chief Cadastral Surveyor for Colorado, (303) 239-3856.

SUPPLEMENTARY INFORMATION: The plat and field notes, of the dependent resurveys and surveys in Township 8 South, Range 96 West, Sixth Principal Meridian, Colorado, were accepted on January 12, 2010.

The plat and field notes, of the dependent resurvey in Township 2 North, Range 72 West, Sixth Principal Meridian, Colorado, were accepted on January 20, 2010.

The plat and field notes, of the dependent resurvey, in Sections 12 and 13, Township 2 North, Range 72 West, Sixth Principal Meridian, Colorado, were accepted on January 20, 2010.

The plat of Protraction Diagram 53, of Township 38 North, Range 8 West, New Mexico Principal Meridian, Colorado, was accepted on March 24, 2010.

The plat and field notes, of the dependent resurvey, in Section 14, Township 1 North, Range 72 West, Sixth Principal Meridian, Colorado, were accepted on March 31, 2010.

The supplemental plat of Section 11 in Township 1 North, Range 72 West, Sixth Principal Meridian, Colorado, was accepted on April 9, 2010.

The plat and field notes, of the dependent resurvey and surveys, in Township 4 South, Range 94 West, Sixth Principal Meridian, Colorado, were accepted on April 12, 2010.

The plat and field notes, of the corrective dependent resurvey, in Township 9 North, Range 79 West, Sixth Principal Meridian, Colorado, were accepted on April 16, 2010.

The plat and field notes, of the dependent resurvey, in Township 3 South, Range 73 West, Sixth Principal Meridian, Colorado, were accepted on April 28, 2010.

The plat and field notes, of the dependent resurvey, in Township 3 North, Range 72 West, Sixth Principal Meridian, Colorado, were accepted on May 4, 2010.

The plat and field notes, of the dependent resurvey in Township 7 South, Range 99 West, Sixth Principal Meridian, Colorado, were accepted on May 5, 2010.

The plat of Protraction Diagram 54, of Township 11 South, Range 86 West, Sixth Principal Meridian, Colorado, was accepted on May 5, 2010.

The plat and field notes, of the dependent resurveys of mineral surveys in Section 18, Township 1 North, Range 71 West, Sixth Principal Meridian, Colorado, were accepted on May 19, 2010.

The plat and field notes, of the dependent resurveys of mineral surveys in Section 13, Township 1 North, Range 72 West, Sixth Principal Meridian, Colorado, were accepted on May 19, 2010.

The supplemental plat of Section 13 in Township 1 North, Range 72 West, Sixth Principal Meridian, Colorado, was accepted on May 20, 2010.

The plat and field notes, of the dependent resurvey in Section 13, Township 9 South, Range 80 West, Sixth Principal Meridian, Colorado, were accepted on May 21, 2010.

The plat and field notes, of the dependent resurvey of certain mineral surveys in Section 24, Township 9 South, Range 80 West, Sixth Principal Meridian, Colorado, were accepted on May 21, 2010.

The plat and field notes, of the dependent resurvey and survey in Township 6 South, Range 91 West, Sixth Principal Meridian, Colorado, were accepted on May 25, 2010.

The plat and field notes, of the dependent resurvey in Township 1 South, Range 77 West, Sixth Principal Meridian, Colorado, were accepted on May 26, 2010.

If a protest of any of these projects is received prior to the date of the official filing, the official filing of that project will be stayed pending consideration of the merits of the protest.

Randy Bloom,
Chief Cadastral Surveyor for Colorado.

[FR Doc. 2010-13426 Filed 6-3-10; 8:45 am]

BILLING CODE 4310-JB-P